FEDERAL COMMUNICATIONS COMMISSION

47 CFR Part 15

[ET Docket Nos. 20-36; Report No. 3178; FRS 37546]

Petition for Reconsideration of Action in Rulemaking Proceeding

AGENCY: Federal Communications Commission.

ACTION: Petition for reconsideration.

SUMMARY: Petition for Reconsideration (Petition) has been filed in the Commission's rulemaking proceeding by Catherine Wang, on behalf of Shure Incorporated.

DATES: Oppositions to the Petition must be filed on or before August 9, 2021. Replies to an opposition must be filed on or before August 17, 2021.

ADDRESSES: Federal Communications Commission, 45 L Street NE, Washington, DC 20554.

FOR FURTHER INFORMATION CONTACT: Hugh VanTuyl, Office of Engineering and Technology Bureau, (202) 418-7506 or Hugh.VanTuyl@fcc.gov.

SUPPLEMENTARY INFORMATION: This is a summary of the Commission's document, Report No. 3178, released July 7, 2021. The full text of the Petition can be accessed online via the Commission's Electronic Comment Filing System at: http://apps.fcc.gov/ecfs/. The Commission will not send a Congressional Review Act (CRA) submission to Congress or the Government Accountability Office pursuant to the CRA, 5 U.S.C. 801(a)(1)(A), because no rules are being adopted by the Commission.

Subject: Unlicensed White Space Device Operations in the Television Bands, FCC 20-156, published at 86 FR 11490, February 25, 2021, in ET Docket No. 20-36. This document is being published pursuant to 47 CFR 1.429(e). See also 47 CFR 1.4(b)(1) and 1.429(f), (g).

Number of Petitions Filed: 1.

Federal Communications Commission.
Katura Jackson,
Federal Register Liaison Officer.

[FR Doc. 2021-15641 Filed 7-22-21; 8:45 am]

BILLING CODE 6712-01-P